Title 3—

The President

Memorandum of March 14, 2005

Delegation of Reporting Function Related to the Sudan Peace Act

Memorandum for the Secretary of State

By virtue of the authority vested in me as President by the Constitution and the laws of the United States, including section 301 of title 3, United States Code, I hereby delegate to you the reporting function conferred upon the President by section 6(e) of the Sudan Peace Act (Public Law 107-245).

You are authorized and directed to publish this memorandum in the Federal Register.

B

THE WHITE HOUSE,

Washington, March 14, 2004.

[FR Doc. 05-5971

Filed 3-23-05; 8:45 am]

Billing code 4710-10-P